DEPARTMENT OF HEALTH AND HUMAN SERVICES

National Institutes of Health

National Institute of Allergy and Infectious Diseases; Amended Notice of Meeting

Notice is hereby given of a change in the meeting of the National Advisory Allergy and Infectious Diseases Council, September 29, 2003, 8:30 a.m. to September 30, 2003 5 p.m., National Institutes of Health, Natcher Building, 45 Center Drive, Conference Room A, Bethesda, MD, 20892 which was published in the Federal Register on August 26, 2003, 66 FR 165 page 51284.

The open portion of the meeting will be held only on September 29 from 1 p.m. to 8:30 p.m. The meeting is partially closed to the public.

Dated: September 10, 2003.
LaVerne Y. Stringfield,
Director, Office of Federal Advisory Committee Policy.

[FR Doc. 03-23650 Filed 9-16-03; 8:45 am]

BILLING CODE 4140-01-M